DEPARTMENT OF AGRICULTURE

Agricultural Marketing Service

[Doc. No. AMS-DA-13-0095]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget, for an extension of and revision to the currently approved information collection Dairy Request for Applicant Number OMB NO. 0581-0272.

DATES: Comments on this notice must be received by May 13, 2014 to be assured of consideration.

Additional Information or Comments: Contact Ken Vorgert, Chief, Dairy Grading Branch, Dairy Programs, Agricultural Marketing Service, U.S. Department of Agriculture, 2150 Western Court, Suite 100, Lisle, IL 60532-1793 telephone 630-437-5037, Fax 630-437-5060 or Email ken.vorgert@ams.usda.gov.

Comments: Comments are welcome and should reference the docket number and the date and page number of this issue of the Federal Register. Comments may be submitted by mail to Ken Vorgert, 2150 Western Court, Suite 100, Lisle, IL 60532 or online at www.regulations.gov. All comments received will be available for public inspection during regular business hours at the same address, or they can be viewed at www.regulations.gov.

All responses to this notice will be summarized and included in the request for OMB approval. All comments will become a matter of public record.

SUPPLEMENTARY INFORMATION:

Title: Dairy Request for Applicant Number.

OMB Number: 0581-0272.

Expiration Date of Approval: July 31, 2014.

Type of Request: Extension and revision of a currently approved information collection.

Abstract: The dairy grading program is a voluntary user fee program authorized under the Agricultural Marketing Act (AMA) of 1946 (7 U.S.C. 1621-1627). The regulations governing inspection and grading services of manufactured or processed dairy products are contained in 7 CFR part 58. In order for a voluntary inspection program to perform satisfactorily, appropriate information must be collected. In general, information requested is used to identify and contact the party responsible for payment of the export certification, inspection, grading or equipment evaluation fee and expense. The information requested on the form is required for AMS Dairy Grading Branch to set up accounts to allow applicants to do business with AMS Dairy Grading Branch. This information includes name of contact, phone number of contact, address of business and tax identification number. This information is currently collected over the telephone, or through faxes, letters or emails. The form allows for uniform collection of the information and more secure management of the information.

The DA-228, Request for Applicant Number, will be updated and the information collected slightly reduced. The form will now be available in a Word format as opposed to the previous PDF format. The form will no longer request, “whom the information was requested by”, “date”, or “service type”.

The DA-229, Export Applicant Number Activation form has become obsolete and is no longer necessary. This form was previously used to activate applicant accounts that were already in the system.

Estimate of Burden: Public reporting burden for this collection of information is estimated to average 0.05 hours per response.

Respondents: Businesses or other for-profit.

Estimated Number of Respondents: 100.

Estimated Total Annual Responses: 100.

Estimated Number of Responses per Respondent: 1.

Estimated Total Annual Burden on Respondents: 3 minutes.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

Dated: February 26, 2014.
Rex A. Barnes,
Associate Administrator, Agricultural Marketing Service.

[FR Doc. 2014-05559 Filed 3-13-14; 8:45 am]

BILLING CODE 3410-02-P